SECURITIES AND EXCHANGE COMMISSION

[Release No. 34—62239; File No. SR—NYSEAMEX—2010—48]

Self-Regulatory Organizations; NYSE Amex LLC; Notice of Filing and Immediate Effectiveness of Proposed Rule Change Deleting Rule 405(4)-NYSE Amex Equities to Correspond with Rule Changes of the Financial Industry Regulatory Authority, Inc.

June 8, 2010.

Correction

In notice document 2010-14360 beginning on page 33880 in the issue of Tuesday, June 15, 2010, make the following correction:

On page 33880, in the first column, the docket number is corrected to read as it appears above.

[FR Doc. C1-2010-14360 Filed 7-1-10; 8:45 am]

BILLING CODE 1505-01-D